DEPARTMENT OF DEFENSE

Department of the Army

Notice of Availability (NOA) for the Draft Environmental Impact Statement (DEIS) for the Transformation of the 2nd Brigade, 25th Infantry Division (Light) to a Striker Brigade Combat Team (SBCT) in Hawaii

AGENCY: Department of the Army, DoD.

ACTION: Notice of availability.

SUMMARY: The Proposed Action includes training to be conducted at Schofield Barracks Military Reservation (SBMR), Dillingham Military Reservation, Kahuku Training Area and Kaiwaloa Training Area on Oahu and the Pōhakuloa Training Area on the island of Hawaii. Twenty-eight projects are proposed that would improve the existing support structure and facilities to provide the necessary field training required for an SBCT. These projects include construction of ranges, airfield upgrades, land acquisition, and new equipment such as new and modernized vehicles (namely the Stryker, an eight-wheeled, 20-ton combat vehicle) and weapons systems (105mm cannon and 120mm mortar). The number of soldiers and vehicles stationed at SBMR also would increase. The Army would acquire land on Oahu (approximately 1,400 acres) and on the island of Hawaii (approximately 23,000 acres) for training areas and road construction.

DATES: The comment period for the DEIS will end 45 days after publication of the NOA in the Federal Register by the U.S. Environmental Protection Agency.

ADDRESSES: To obtain a copy of the DEIS, ask questions or submit written comments, contact Ms. Cindy Barger, U.S. Army Corps of Engineers, Honolulu Engineer District, Program and Project Management, Attention: CEPOH-PP-E (Barger), Building 230, Fort Shafter, Hawaii 96858-5440.

FOR FURTHER INFORMATION CONTACT: Ms. Cindy Barger by telephone at (808) 438-4812; by facsimile at (808) 438-7801; or by e-mail at SBCT_EIS@usace.army.mil.

SUPPLEMENTARY INFORMATION: The SBCT DEIS analyzes three alternative courses of action with respect to the transformation of the 2nd Brigade, 25th Infantry Division in Hawaii: (1) The transformation of the 2nd Brigade, 25th Infantry Division (Light) to an SBCT with a range of supporting activities including new, additional, or modified ranges, facilities and infrastructure and acquisition of approximately 1,400 acres of additional training lands on Oahu and 23,000 acres on the island of Hawaii (preferred alternative); (2) the transformation of the 2nd Brigade, 25th Infantry Division (Light) to an SBCT with a range of supporting activities including new, additional, or modified ranges, facilities and infrastructure, and acquisition of approximately 100 acres of additional training lands on Oahu and 23,000 acres on the island of Hawaii; and (3) the no action alternative, under which no transformation would occur in the near term and training would continue as currently exists.

Comments on the Draft EIS, received during the 45-day public comment period, will be considered in preparing the Final EIS. Public meetings to comment on the SBCT DEIS will be held at various locations on the islands of Oahu and Hawaii. Notification of the times and locations for the public meetings will be published in local newspapers and in the Hawaii Office of Environmental Quality Control bulletin.

Copies of the SBCT DEIS are available for review at the following libraries: Hilo Public Library, 300 Waianuenue Avenue, Hilo, Hawaii 96720-2477; Kailua-Kona Public Library, 75-138 Hualalai Road, Kailua-Kona, Hawaii 96740-1704; Thelma Parker Memorial Public and School Library, 96767-1209 Mamalahoa Hwy. Kamuela, Hawaii 96743-8429; Kahuku Public and School Library, 56-490 Kamehameha Hwy., Kahuku, Hawaii 96731-2200; Mililani Public Library, 95-450 Makaimoimo Street, Mililani, Hawaii 96789-3018; Hawaii State Library, 478 South King St., Honolulu, Hawaii 96813-2901; Wahiawa Public Library, 820 California Avenue, Wahiawa, Hawaii 96786-2034; Waianae Public Library, 85-625 Farrington Hwy., Waianae, Hawaii 96792-2406; Waialua Public Library, 67-068 Kealohanui Street, Waialua, Hawaii 96791; and UH Environmental Center, 317 Crawford Hall, 2550 Campus Rd., Honolulu, Hawaii 96822-2217.

The Draft EIS may also be reviewed at the following SBCT Web site: http://www.SBCTEIS.com.

Dated: September 22, 2003.
Raymond J. Fatz,
Deputy Assistant Secretary of the Army, (Environment, Safety and Occupational Health), OASA(I&E).

[FR Doc. 03-24482 Filed 9-26-03; 8:45 am]

BILLING CODE 3710-08-M